DEPARTMENT OF COMMERCE

National Telecommunications and Information Administration

Call for Applications for Commerce Spectrum Management Advisory Committee; National Telecommunications and Information Administration, U.S. Department of Commerce

ACTION: Reopening of Application Period.

SUMMARY: The National Telecommunications and Information Administration (NTIA) seeks applications from persons interested in serving on the Department of Commerce's Spectrum Management Advisory Committee (CSMAC) for new two-year terms. This Notice reopens the application period announced in the Federal Register on December 7, 2010 (December Notice) in order to identify additional candidates. Any applicant who provided NTIA with the requested materials in response to the December Notice will be considered for appointment and need not resubmit materials, although they are permitted to supplement their applications with new or additional information.

DATES: Applications must be postmarked or electronically transmitted on or before January 31, 2011.

ADDRESSES: Persons wishing to submit applications as described below should send that information to: Joe Gattuso, Designated Federal Officer, by e-mail to spectrumadvisory@ntia.doc.gov; by U.S. mail or commercial delivery service to: Office of Policy Analysis and Development, National Telecommunications and Information Administration, 1401 Constitution Avenue, NW., Room 4725, Washington, DC 20230; or by facsimile transmission to (202) 482-6173.

FOR FURTHER INFORMATION CONTACT: Joe Gattuso at (202) 482-0977, or jgattuso@ntia.doc.gov.

SUPPLEMENTARY INFORMATION: The CSMAC was first chartered in 2005 under the Federal Advisory Committee Act (FACA), 5 U.S.C. App. 2, to carry out the functions of the National Telecommunications and Information Administration Act, 47 U.S.C. 904(b). The CSMAC advises the Assistant Secretary of Commerce for Communications and Information on a broad range of issues regarding spectrum policy.

The Secretary of Commerce appoints members to the CSMAC for two year terms. They are experts in radio spectrum policy, and do not represent any organization or interest, and serve in the capacity of Special Government Employees. Members do not receive compensation or reimbursement for travel or for per diem expenses. Members may not be federally registered lobbyists. Previously, the charter allowed CSMAC to have up to 20 members. The renewed charter, effective April 6, 2009, allows up to 25 members to serve on the CSMAC.

On December 7, 2010, NTIA published a Notice in the Federal Register seeking additional persons interested in appointment, with applications due January 10, 2011 (December Notice): 75 FR 75967 (Dec. 7, 2010), available at http://www.ntia.doc.gov/notices/2010/FR_CSMAC_CallforApplications_12072010.pdf. This Notice reopens the application period in order to identify additional candidates. The December Notice sought applicants for vacancies that will occur when the appointments of 18 members expire on January 13, 2011.

Any applicant who provided NTIA with the requested materials in response to the December Notice will be considered for appointment and need not resubmit materials, although they are permitted to supplement their applications with new or additional information. The evaluation criteria for selecting members contained in the December Notice shall continue to apply.

All parties wishing to be considered should submit their full name, address, telephone number and e-mail address and a summary of their qualifications that identifies with specificity how their education, training, experience, or other factors would support the CSMAC's work and how their participation would provide balance to the CSMAC. They should also include a detailed resume or curriculum vitae (CV).

Persons may submit applications with the information specified above to Joe Gattuso, Designated Federal Officer, by e-mail or commercial delivery service to Office of Policy Analysis and Development, National Telecommunications and Information Administration, 1401 Constitution Avenue, NW., Room 4725, Washington, DC 20230; or by facsimile transmission to (202) 482-6173.

Dated: January 6, 2011.
Kathy D. Smith,
Chief Counsel, National Telecommunications and Information Administration.

[FR Doc. 2011-423 Filed 1-11-11; 8:45 am]

BILLING CODE 3510-60-P